DEPARTMENT OF HOMELAND SECURITY

Federal Emergency Management Agency

[FEMA-1786-DR]

Louisiana; Amendment No. 6 to Notice of a Major Disaster Declaration

AGENCY: Federal Emergency Management Agency, DHS.

ACTION: Notice.

SUMMARY: This notice amends the notice of a major disaster declaration for the State of Louisiana (FEMA-1786-DR), dated September 2, 2008, and related determinations.

DATES: Effective Date: September 16, 2008.

FOR FURTHER INFORMATION CONTACT: Peggy Miller, Disaster Assistance Directorate, Federal Emergency Management Agency, 500 C Street, SW., Washington, DC 20472, (202) 646-3886.

SUPPLEMENTARY INFORMATION: The notice of a major disaster declaration for the State of Louisiana is hereby amended to include the Hazard Mitigation Grant Program for following areas among those areas determined to have been adversely affected by the catastrophe declared a major disaster by the President in his declaration of September 2, 2008.

Natchitoches and Winn Parishes for Public Assistance (already designated for emergency protective measures [Category B], including direct Federal assistance, under the Public Assistance program).

Acadia, Ascension, Assumption, East Baton Rouge, Iberia, Iberville, Jefferson, Lafourche, Livingston, Plaquemines, Pointe Coupee, St. Bernard, St. James, St. Landry, Vernon, West Baton Rouge, and West Feliciana Parishes for Public Assistance (already designated for Individual Assistance and debris removal and emergency protective measures [Categories A and B], including direct Federal assistance, under the Public Assistance program).

Catahoula, Grant, La Salle, St. Helena, Tangipahoa, and Washington Parishes for Public Assistance (already designated for Individual Assistance and emergency protective measures [Category B], including direct Federal assistance, under the Public Assistance program).

All parishes in the State of Louisiana are eligible to apply for assistance under the Hazard Mitigation Grant Program.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050, Presidentially Declared Disaster Assistance to Individuals and Households—Other Needs; 97.036, Disaster Grants—Public Assistance (Presidentially Declared Disasters); 97.039, Hazard Mitigation Grant.)

R. David Paulison,
Administrator, Federal Emergency Management Agency.

[FR Doc. E8-22559 Filed 9-24-08; 8:45 am]

BILLING CODE 9110-10-P